ENVIRONMENTAL PROTECTION AGENCY

[ER-FRL-6676-1]

Environmental Impacts Statements; Notice of Availability

Responsible Agency: Office of Federal Activities, General Information (202) 564-7167 or http://www.epa.gov/compliance/nepa/.

Weekly receipt of Environmental Impact Statements

Filed May 29, 2006 through June 2, 2006

Pursuant to 40 CFR 1506.9.

EIS No. 20060229, Revised Draft EIS, FHW, TX, Grand Parkway (State Highway 99) Updated Information, Segment E from IH to U.S. 290; Segment F-1 from U.S. 290 to SH 249; Segment F-2 from SH 249 to IH 45 and Segment G from IH 45 to U.S. 59, Right-of-Way Permit and U.S. Army COE Section 404 Permit, City of Houston, Harris and Montgomery Counties, TX, Comment Period Ends: August 25, 2006, Contact: Gary N. Johnson 512-536-5964.

EIS No. 20060230, Draft Supplement, BLM, UT, Price Field Resource Management Plan, Updated Information and Analysis, Areas of Critical Environmental Concerns, Implementation, Carbon and Emery Counties, UT, Comment Period Ends: July 24, 2006, Contact: Floyd Johnson 435-636-3600.

EIS No. 20060231, Final EIS, IBR, NM, Carlsbad Project Water Operations and Water Supply Conservation, Changes in Carlsbad Project Operations and Implementation of Water Acquisition Program, U.S. COE Section 404 Permit, NPDES, Eddy, De Baca, Chaves, and Guadelupe Counties, NM, Wait Period Ends: July 10, 2006, Contact: Marsha Carra 505-462-3602.

EIS No. 20060232, Final EIS, AFS, NY, Finger Lakes National Forest Project, Proposed Land and Resource Management Plan, Forest Plan Revision, Implementation, Seneca and Schuyler Counties, NY, Wait Period Ends: July 10, 2006, Contact: Melissa Reichert 802-747-6754.

EIS No. 20060233, Draft EIS, FHW, NY, Long Island Expressway (LIE) Rest Area Upgrade Project, Upgrading the Existing Rest Area from Route 1-495/ Long Island Expressway between Exits 51 and 52, Funding, Suffolk County, NY, Comment Period Ends: July 31, 2006, Contact: Matthew Hoffman 631-952-7049.

EIS No. 20060234, Final EIS, AFS, IL, Shawnee National Forest Proposed Land and Resource Management Plan Revision, Implementation, Alexander, Gallatin, Hardin, Jackson, Johnson, Massac, Pope, Union and Williamson Counties, IL, Wait Period Ends: July 10, 2006, Contact: Steve Hupe 618-253-7114.

EIS No. 20060235, Draft EIS, CGD, MA, Neptune Liquefied Natural Gas (LNG), Construction and Operation, Deepwater Port License Application, (Docket Number USCG-2004-22611) Massachusetts Bay, Gloucester and Boston, MA, Comment Period Ends: July 24, 2006, Contact: Mark Prescott 202-267-0225.

Dated: June 9, 2006.
Robert W. Hargrove,
Director, NEPA Compliance Division, Office of Federal Activities.

[FR Doc. E6-8997 Filed 6-8-06; 8:45 am]

BILLING CODE 6560-50-P